DEPARTMENT OF THE INTERIOR

Bureau of Land Management

[LLUT920000L13100000 FI0000 25-7A]

Notice of Proposed Class II Reinstatement of Terminated Oil and Gas Lease, Utah

AGENCY: Bureau of Land Management, Interior.

ACTION: Notice of Proposed Class II Reinstatement of Terminated Oil and Gas Lease, Utah.

SUMMARY: In accordance with Title IV of the Federal Oil and Gas Royalty Management Act (Pub. L. 97-451), Dudley & Associates timely filed a petition for reinstatement of oil and gas lease UTU77371, for lands in Carbon County, Utah, and it was accompanied by all required rentals and royalties accruing from October 1, 2009, the date of termination.

FOR FURTHER INFORMATION CONTACT: Kent Hoffman, Deputy State Director, Lands and Minerals, Utah State Office, Bureau of Land Management, 440 West 200 South, Salt Lake City, Utah 84145, phone (801) 539-4063.

SUPPLEMENTARY INFORMATION: The lessee has agreed to new lease terms for rentals and royalties at rates of $5 per acre and 16⅔%, respectively. The $500 administrative fee for the lease has been paid and the lessee has reimbursed the Bureau of Land Management for the cost of publishing this notice.

Having met all the requirements for reinstatement of the lease as set out in Section 31(d) and (e) of the Mineral Leasing Act of 1920 (30 U.S.C. 188), the Bureau of Land Management is proposing to reinstate the lease, effective October 1, 2009, subject to the original terms and conditions of the lease and the increased rental and royalty rates cited above.

Juan Palma,
State Director.

[FR Doc. 2011-6168 Filed 3-16-11; 8:45 am]

BILLING CODE 4310-DQ-P